DEPARTMENT OF ENERGY

Federal Energy Regulatory Commission

Combined Notice of Filings

Take notice that the Commission has received the following Natural Gas Pipeline Rate and Refund Report filings:

Filings Instituting Proceedings

Docket Numbers: RP17-470-001.

Applicants: KO Transmission Company.

Description: KO Transmission Company submits tariff filing per 154.205(b): Amended 2017 Transportation Retainage Adjustment to be effective 4/1/2017.

Filed Date: 03/01/2017.

Accession Number: 20170301-5289.

Comment Date: 5:00 p.m. Eastern Time on Thursday, March 30, 2017.

Docket Numbers: RP17-560-000.

Applicants: Iroquois Gas Transmission System, L.P.

Description: Iroquois Gas Transmission System, L.P. submits tariff filing per 154.204: 03/28/17 Negotiated Rates—ENI Trading & Shipping (RTS) 7825-02 to be effective 4/1/2017.

Filed Date: 03/28/2017.

Accession Number: 20170328-5071.

Comment Date: 5:00 p.m. Eastern Time on Monday, April 10, 2017.

Docket Numbers: RP17-561-000.

Applicants: Kern River Gas Transmission Company.

Description: Kern River Gas Transmission Company submits tariff filing per 154.204: 2017 Period Two Election Deadline to be effective 4/27/2017.

Filed Date: 03/28/2017.

Accession Number: 20170328-5153.

Comment Date: 5:00 p.m. Eastern Time on Monday, April 10, 2017.

Docket Numbers: RP17-562-000.

Applicants: Trailblazer Pipeline Company LLC.

Description: Annual Incidental Purchases and Sales Report of Trailblazer Pipeline Company LLC.

Filed Date: 03/28/2017.

Accession Number: 20170328-5162.

Comment Date: 5:00 p.m. Eastern Time on Monday, April 10, 2017.

Docket Numbers: RP17-563-000.

Applicants: Rockies Express Pipeline LLC.

Description: Annual Incidental Purchases and Sales Report of Rockies Express Pipeline LLC.

Filed Date: 03/28/2017.

Accession Number: 20170328-5163.

Comment Date: 5:00 p.m. Eastern Time on Monday, April 10, 2017.

Docket Numbers: RP17-564-000.

Applicants: Transcontinental Gas Pipe Line Company.

Description: Transcontinental Gas Pipe Line Company, LLC submits tariff filing per 154.204: Negotiated Rates—Cherokee AGL—Replacement Shippers—Apr 2017 to be effective 4/1/2017.

Filed Date: 03/28/2017.

Accession Number: 20170328-5230.

Comment Date: 5:00 p.m. Eastern Time on Monday, April 10, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2017.
Kimberly D. Bose,
Secretary.

[FR Doc. 2017-06612 Filed 4-3-17; 8:45 am]

BILLING CODE 6717-01-P